DEPARTMENT OF HOMELAND SECURITY

Bureau of Customs and Border Protection

[Docket No. USCBP-2007-0003]

Notice of Meeting of the Departmental Advisory Committee on Commercial Operations of Customs and Border Protection and Related Homeland Security Functions (COAC)

AGENCY: U.S. Customs and Border Protection, Department of Homeland Security (DHS).

ACTION: Notice of Federal Advisory Committee Meeting.

SUMMARY: The Departmental Advisory Committee on Commercial Operations of U.S. Customs and Border Protection and Related Homeland Security Functions (popularly known as “COAC”) will meet on February 14, 2007 in Washington, DC. The meeting will be open to the public.

DATES: COAC will meet Wednesday, February 14th from 9 a.m. to 1 p.m. Please note that the meeting may close early if the committee has completed it business.

ADDRESSES: The meeting will be held at the Ronald Reagan Building in the Rotunda Ballroom, 1300 Pennsylvania Avenue, NW., Washington, DC 20004. Written material, comments, and requests to make oral presentations at the meeting should reach the contact person listed below by February 1st. Requests to have a copy of your material distributed to each member of the committee prior to the meeting should reach the contact person at the address below by February 7, 2007. Comments must be identified by USCBP-2007-0003 and may be submitted by one of the following methods:

• Federal eRulemaking Portal: http://www.regulations.gov. Follow the instructions for submitting comments.

• E-mail: traderelations@dhs.gov. Include the docket number in the subject line of the message.

• Fax: 202-344-1969.

• Mail: Ms. Wanda Tate, Office of International Affairs and Trade Relations, U.S. Customs and Border Protection, Department of Homeland Security, Room 2.4B, Washington, DC 20229.

Instructions: All submissions received must include the words “Department of Homeland Security” and the docket number for this action. Comments received will be posted without alteration at www.regulations.gov, including any personal information provided.

Docket: For access to the docket to read background documents or comments received by the COAC, go to http://www.regulations.gov.

FOR FURTHER INFORMATION CONTACT: Ms. Wanda Tate, Office of International Affairs and Trade Relations, Customs and Border Protection, Department of Homeland Security, 1300 Pennsylvania Ave., NW., Room 2.4B, Washington, DC 20229; traderelations@dhs.gov; telephone 202-344-1440; facsimile 202-344-1969.

SUPPLEMENTARY INFORMATION: Notice of this meeting is given under the Federal Advisory Committee Act, 5 U.S.C. App. 2 (Pub. L. 92-463). The Departmental Advisory Committee on Commercial Operations of U.S. Customs and Border Protection and Related Homeland Security Functions (COAC) is tasked with providing advice to the Secretary of Homeland Security, the Secretary of the Treasury, and the Commissioner of Customs and Border Protection (CBP) on matters pertaining to the commercial operations of CBP and related functions within DHS or the Department of the Treasury.

The first meeting of the tenth term of COAC will be held at the date, time and location specified above. A tentative agenda for the meeting is set forth below.

Tentative Agenda

1. Introduction of the newly-appointed tenth term COAC members.

2. Collection of additional data elements for cargo security.

3. Trade Resumption.

4. International Container Security.

5. CSI (Container Security Initiative).

6. C-TPAT (Customs-Trade Partnership Against Terrorism).

7. Office of International Trade.

8. Export Enforcement—training and policy.

Procedural

This meeting is open to the public. Please note that the meeting may close early if all business is finished.

Participation in COAC deliberations is limited to committee members, Department of Homeland Security officials, and persons invited to attend the meeting for special presentations.

All visitors to the Ronald Reagan Building will have to go through a security checkpoint to be admitted to the building. Since seating is limited, all persons attending this meeting should provide notice, preferably by close of business Monday, February 12, 2007, to Ms. Wanda Tate, Office of Trade Relations, U.S. Customs and Border Protection, Department of Homeland Security, Washington, DC 20229, telephone 202-344-1440; facsimile 202-344-1969.

Information on Services for Individuals With Disabilities

For information on facilities or services for individuals with disabilities or to request special assistance at the meeting, contact Ms. Wanda Tate as soon as possible.

Dated: January 26, 2007.
Michael C. Mullen,
Assistant Commissioner, Office of International Affairs and Trade Relations, Customs and Border Protection.

[FR Doc. E7-1515 Filed 1-29-07; 8:45 am]

BILLING CODE 9111-14-P